DEPARTMENT OF COMMERCE

National Oceanic and Atmospheric Administration

50 CFR Part 660

[Docket No. 201204-0325]

RIN 0648-BJ74

Magnuson-Stevens Act Provisions; Fisheries Off West Coast States; Pacific Coast Groundfish Fishery; Pacific Coast Groundfish Fishery Management Plan; Amendment 29; 2021-22 Biennial Specifications and Management Measures

AGENCY: National Marine Fisheries Service (NMFS), National Oceanic and Atmospheric Administration (NOAA), Commerce.

ACTION: Final rule.

SUMMARY: This final rule establishes the 2021-22 harvest specifications for groundfish taken in the U.S. exclusive economic zone off the coasts of Washington, Oregon, and California, consistent with the Magnuson-Stevens Fishery Conservation and Management Act and the Pacific Coast Groundfish Fishery Management Plan (PCGFMP). This final rule revises the management measures that are intended to keep the total annual catch of each groundfish stock or stock complex within the annual catch limits. These measures are intended to help prevent overfishing, rebuild overfished stocks, achieve optimum yield, and ensure that management measures are based on the best scientific information available. Additionally, this final rule implements Amendment 29 to the PCGFMP, which designates shortbelly rockfish as an ecosystem component species, and changes the trawl and nontrawl allocations for blackgill rockfish within the southern slope complex south of 40°10' North latitude (N. lat.), petrale sole, lingcod south of 40°10′ N lat., and widow rockfish.

DATES: This final rule is effective January 1, 2021.

ADDRESSES:

Electronic Access

This rule is accessible via the internet at the Office of the Federal Register website at https://www.federalregister.gov/. Background information and documents including an integrated analysis for this action (Analysis), which addresses the statutory requirements of the Magnuson Stevens Fishery Conservation and Management Act (Magnuson-Stevens Act), the National Environmental Policy Act, Presidential Executive Order 12866, and the Regulatory Flexibility Act are available at the NMFS West Coast Region website at https://www.fisheries.noaa.gov/region/west-coast and at the Pacific Fishery Management Council's website at http://www.pcouncil.org. The final 2020 Stock Assessment and Fishery Evaluation (SAFE) report for Pacific Coast groundfish, as well as the SAFE reports for previous years, are also available from the Pacific Fishery Management Council's website at http://www.pcouncil.org.

FOR FURTHER INFORMATION CONTACT: Karen Palmigiano, phone: 206-526-4491 or email: karen.palmigiano@noaa.gov.

SUPPLEMENTARY INFORMATION:

I. Harvest Specifications

This final rule sets 2021-22 harvest specifications and management measures for 127 of the 128 groundfish stocks which currently have annual catch limits (ACLs) or ACL contributions to stock complexes managed under the PCGFMP, except for Pacific whiting. Pacific whiting harvest specifications are established annually through a separate bilateral process with Canada. Under Amendment 29, shortbelly rockfish, which was managed with harvest specifications in the most recent biennium (2019-20), will no longer be managed with harvest specifications and will be instead designated as an ecosystem component species.

The overfishing limits (OFLs), acceptable biological catch (ABCs), and ACLs are based on the best available biological and socioeconomic data, including projected biomass trends, information on assumed distribution of stock biomass, and revised technical methods used to calculate stock biomass. See Tables 1a and 2a to Part 660, Subpart C in the regulatory text supporting this rule for the 2021-22 OFLs, ABCs, and ACLs for each stock or stock complex.

A detailed description of each stock and stock complex for which the Council establishes harvest specifications set through this rule can be found in the 2020 SAFE document posted on the Council's website at http://www.pcouncil.org/groundfish/safe-documents/. A summary of how the 2021-22 harvest specifications were developed, including a description of off-the-top deductions for tribal, research, incidental, and experimental fisheries, was provided in the proposed rule and is not repeated here. Additional information on the development of these harvest specifications is also provided in the Analysis.

For most stocks, the Council recommended harvest specifications based on the default harvest control rule used in the prior biennium. The Council recommended deviating from the default harvest control rule for four stocks in 2021-2022. Table 1 presents a summary of the changes to the harvest control rules for these four stocks for the 2021-22 biennium. Each of these changes was discussed in the proposed rule and that discussion is not repeated here.

II. Management Measures

This section describes management measures (i.e., biennial fishery harvest guidelines and set-asides) used to further allocate the ACLs to the various sectors of the fishery and to manage the fishery. Management measures for the commercial fishery modify fishing behavior during the fishing year to ensure that catch does not exceed the ACL, and include trip and cumulative landing limits, time/area closures, size limits, and gear restrictions. Management measures for the recreational fisheries include bag limits, size limits, gear restrictions, fish dressing requirements, and time/area closures. Each of these changes was discussed in the proposed rule and that discussion is not repeated here.

A. Deductions From the ACLs

Before making allocations to the primary commercial and recreational components of groundfish fisheries, the Council recommends “off-the-top deductions,” or deductions from the ACLs to account for anticipated mortality for certain types of activities: Harvest in Pacific Coast treaty Indian tribal fisheries; harvest in scientific research activities; harvest in non-groundfish fisheries (incidental catch); and harvest that occurs under exempted fishing permits (EFPs). These off-the-top deductions are for individual stocks or stock complexes and can be found in the footnotes to Tables 1a and 2a to part 660, subpart C.

B. Tribal Fisheries

The Quileute Tribe, Quinault Indian Nation, Makah Indian Tribe, and Hoh Indian Tribe (collectively, “the Pacific Coast Tribes”) implement management measures for Tribal fisheries both independently as sovereign governments and cooperatively with the management measures in the Federal regulations. The Pacific Coast Tribes may adjust their Tribal fishery management measures inseason to stay within the Tribal harvest targets and estimated impacts to overfished stocks. Table 2 provides the Tribal harvest targets for the 2021-22 biennium.

C. Biennial Fishery Allocations

The Council recommends two-year trawl and nontrawl allocations during the biennial specifications process for all stocks without formal allocations (as defined in Section 6.3.2 of the PCGFMP) or stocks where the long-term allocation is suspended because the stock is declared overfished. As part of the 2021-22 biennium, the Council also decided to revise the trawl and nontrawl allocations for canary rockfish, as well as Petrale sole, widow rockfish, lingcod south of 40°10′ N lat., and the slope rockfish complex south of 40°10′ N. lat., which were established through Amendment 21 to the PCGFMP (75 FR 32993, June 10, 2010), to better align these allocations with current harvest trends. The changes to these allocations are part of Amendment 29 and were discussed in the Notice of Availability for that amendment (85 FR 54529, September 2, 2020).

The trawl and nontrawl allocations, with the exception of sablefish north of 36° N lat., are based on the fishery harvest guideline. The fishery harvest guideline is the tonnage that remains after subtracting the off-the-top deductions described in Section II, A, entitled “Deductions from the ACLs,” in this preamble. The trawl and nontrawl allocations are designed to accommodate anticipated mortality in each sector as well as variability and uncertainty in those mortality estimates. Additional information on the Council's allocation framework and formal allocations can be found in Section 6.3 of the PCGFMP and § 660.55 of the Federal regulations. Trawl and nontrawl allocations are detailed in Tables 1b and 2b in the regulatory text for this rule.

D. Corrections to Waypoints for Rockfish Conservation Areas

Rockfish Conservation Areas (RCAs) are large groundfish area closures intended to reduce the catch of a stock or stock complex by restricting fishing activity at specific depths. The boundaries for RCAs are defined by straight lines connecting a series of latitude and longitude coordinates that approximate depth contours. These sets of coordinates, or lines, are not gear or fishery specific, but can be used in combination to define an area. NMFS then implements fishing restrictions for a specific gear and/or fishery within each defined area. Table 3 below shows the RCA boundaries by gear type in place starting in 2021.

For the 2021-22 biennium, the Council recommended and NMFS is implementing minor adjustments to the 40 fathom (fm) depth contour offshore of San Mateo in Central California, and the 100 fm depth contours off of California to more accurately refine the depth contours, as well as the addition of coordinates to define the 100 fm line around the Channel Islands (Table 3).

E. Limited Entry Trawl

The limited entry trawl fishery is made up of the Shorebased IFQ Program, which includes both whiting and non-whiting targets, and the at-sea whiting sectors. For some stocks and stock complexes with a trawl allocation, an amount is first set-aside for the at-sea whiting sector with the remainder of the trawl allocation going to the Shorebased IFQ Program. Set-asides are not actively managed by NMFS or the Council except in the case of a risk to the ACL.

At-Sea Set-Asides

For several species, the trawl allocation is reduced by an amount set-aside for the at-sea whiting sector. This amount is designed to accommodate catch by the at-sea whiting sector when they are targeting Pacific whiting. The Council recommended and NMFS is implementing the set-asides in Table 4 for the 2021-22 biennium.

Incidental Trip Limits for IFQ Vessels

For vessels fishing in the Shorebased IFQ Program, with either groundfish trawl gear or nontrawl gears, the following incidentally-caught stocks are managed with trip limits: Minor Nearshore Rockfish north and south, black rockfish, cabezon (46°16′ to 40°10′ N lat. and south of 40°10′ N lat.), spiny dogfish, shortbelly rockfish, big skate, Pacific whiting, and the Other Fish complex. For all these stocks, except big skate, this rule is implementing the same IFQ fishery trip limits for these stocks for the 2021-22 biennium as those in place in 2020. For big skate, the Council recommended, and NMFS is implementing, an unlimited trip limit at the start of 2021. Additionally, the Council recommended and NMFS is implementing a trip limit for blackgill rockfish within the southern slope rockfish complex. The trip limit is unlimited to start the 2021 fishing year. The purpose of the blackgill trip limit is to allow the Council to reduce targeting of blackgill rockfish inseason, if needed. Trip limits for the IFQ fishery can be found in Table 1 North and Table 1 South to part 660, subpart D in the regulatory text of this rule. Changes to trip limits for the IFQ fishery are considered a routine measure under § 660.60(c), and may be implemented or adjusted, if determined necessary, through inseason action.

F. Limited Entry Fixed Gear and Open Access Nontrawl Fishery

Management measures for the Limited Entry Fixed Gear (LEFG) and Open Access (OA) nontrawl fisheries tend to be similar because the majority of participants in both fisheries use hook-and-line gear. Management measures, including area restrictions (e.g., nontrawl RCA) and trip limits in these nontrawl fisheries, are generally designed to allow harvest of target stocks while keeping catch of overfished stocks low. For the 2021-22 biennium, the Council recommended, and NMFS is implementing, increased trip limits for almost all LEFG and OA fisheries, many of which were first implemented decades ago and do not reflect stocks that rebuilt in previous biennium or other management changes (e.g., stock complex reorganizations). LEFG and OA trip limits are specified in Table 2 (North), Table 2 (South) to subpart E for LEFG and in Table 3 (North) and Table 3 (South) to subpart F for OA in the regulatory text of this rule.

Sablefish Trip Limits

Sablefish are managed separately north and south of 36°N lat. For the portion of the stock north of 36°N lat., the Council recommended and NMFS is implementing higher trip limits for the LEFG and OA fisheries in 2021. For the portion south of 36°N lat., the Council recommended, and NMFS is implementing, removing the daily trip limit for the OA fishery but maintaining the same weekly and bimonthly trip limits as were in place in the start of 2020. The sablefish trip limits for 2021-22 are shown in Table 5.

LEFG and OA Trip Limits

The Council recommended, and NMFS is implementing, higher trip limits for LEFG and OA fisheries in 2021, including trip limits for shortspine thornyhead, longspine thornyhead, widow rockfish, shelf rockfish, shortbelly rockfish, canary rockfish, Pacific ocean perch, yellowtail rockfish, slope rockfish, darkblotched rockfish, Lingcod, nearshore rockfish, black rockfish, Other Flatfish, bocaccio south of 40°10′ N lat., and chilipepper rockfish.

As discussed in the proposed rule for this action (85 FR 62492; October 2, 2020), the Council recommended establishing an OA trip limit for shortspine and longspine thornyheads in the area between 40°10′ N lat. and 34°27′ N lat. Therefore, NMFS is implementing a 50 lb (22.7 kg) per month limit for OA fisheries targeting shortspine and longspine thornyheads in the area between 40°10′ N lat. and 34°27′ N lat.

Primary Sablefish Tier Limits

Some limited entry fixed gear permits are endorsed to receive annual sablefish quota, or tier limits. Vessels registered with one, two, or up to three of these permits may participate in the primary sablefish fishery. The tier limits are as follows: In 2021, Tier 1 at 58,649 lb (26,602 kg), Tier 2 at 26,659 lb (12,092 kg), and Tier 3 at 15,234 lb (6,910 kg). For 2022 the limits are: Tier 1 at 55,858 lb (25,337 kg), Tier 2 at 25,390 lb (11,517 kg), and Tier 3 at 14,509 lb (6,581 kg).

Yellowtail Trip Limit for the Salmon Troll Fishery North and South of 40°10′ N Lat.

The Council recommended and NMFS is implementing an increase to the yellowtail rockfish limit in the salmon troll fishery north of 40°10′ N lat. from 200 lbs (91 kg) to 500 lbs (227 kg) and removing the ratio for yellowtail to salmon.

The Council also recommended, and NMFS is implementing, a yellowtail rockfish trip limit in the salmon troll fishery south of 40°10′ N lat. of 1 lb (0.45 kg) of yellowtail rockfish for every 2 lbs (0.9 kg) of Chinook salmon landed, with a cumulative limit of 200 lb (91 kg) per month, both within and outside of the RCA. This second change was included in the regulatory text of the proposed rule. However, the description of this change was inadvertently left out of the preamble. This was highlighted by a commenter during the public comment period. See Comment 4 in Section III, entitled “Response to Comments.”

Removal of Other Flatfish Gear Restriction Off California

The Council recommended and NMFS is removing the gear restrictions for the LEFG and OA fisheries targeting stocks in the Other Flatfish complex inside the nontrawl RCA south of 42° N lat.

Nontrawl RCA Adjustments

In addition to increasing the LEFG and OA trip limits, the Council recommended and NMFS is implementing the following changes to the Nontrawl RCA off Oregon and Washington:

• Between 40°10′ N lat. and 46°16′ N lat. (the Oregon-Washington border): Open the area between the 30- and 40-fm management lines to hook-and-line gear except bottom longline and dinglebar, as defined in the “general definitions” section of the Federal regulations at 50 CFR 660.11;

• Between 38°57.5′ N lat. and 34°27′ N lat., (Point Arena to Point Conception): Open the area between 40 fm and 50 fm; and

• South of 34°27′ N lat.: Open the area between 75 fm and 100 fm.

These changes, along with the changes to recreational conservation areas (discussed in Section II, H., Recreational Fisheries) will provide much needed access to these areas for the LEFG and OA fisheries to better attain their trip limits. Nontrawl RCA closures can be found in the LEFG and OA trip limits in Table 2 (North), Table 2 (South) to subpart E for LEFG and in Table 3 (North) and Table 3 (South) to subpart F for OA in the regulatory text of this rule.

New Management Line at 38°57.5′ N Lat.

In order to make some of the changes to the Nontrawl RCA, the Council also recommended and NMFS is implementing a new management line at 38°57.5′ N lat., which is Point Arena, California. Point Arena is already defined in Federal regulations under the definition for North-South Management Areas, as a commonly used geographic coordinate.

H. Recreational Fisheries

This section outlines the recreational fisheries management measures for 2021-22. Washington, Oregon, and California each proposed, the Council recommended, and NMFS is implementing different combinations of seasons, bag limits, area closures, and size limits for stocks targeted in recreational fisheries.

Washington

This rule implements the following season structure in Table 6.

The aggregate groundfish bag limits in waters adjacent to Washington will continue to be nine fish in all areas with a sub-bag limit for cabezon (one per day), rockfish (seven per day), and lingcod (two per day). The flatfish limit will be five fish, and is not counted towards the groundfish bag limit of nine but is in addition to it.

Consistent with the 2019-20 biennium, the Council recommended and NMFS is implementing to continue to prohibit recreational fishing for groundfish and Pacific halibut inside the North Coast Recreational Yelloweye Rockfish Conservation Area (YRCA), a C-shaped closed area off the northern Washington coast. However, the Council recommended and NMFS is implementing opening the South Coast Recreational YRCA and the Westport Offshore YRCA to recreational fishing for the 2021-22 biennium. Coordinates for YRCAs are defined at § 660.70.

Oregon

The Council recommended, and NMFS is implementing, an all months all depths season structure for the Oregon recreational fishery to start the 2021 fishing year. The Council recommended, and NMFS is implementing, the following aggregate bag and size limits: Three lingcod per day, with a minimum size of 22 in (56 cm); 25 flatfish per day, excluding Pacific halibut; and a marine fish aggregate bag limit of 10 fish per day, where cabezon have a minimum size of 16 in (41 cm).

As part of the 2021-22 biennium, the ODFW also requested that the Council consider allowing longleader gear fishing and “all-depth” Pacific halibut fishing on the same trip, which is currently prohibited. Therefore, the Council recommended, and NMFS is removing the prohibition on combining Oregon longleader trips with all depths halibut trips.

California

Table 7 shows the season structure and depth limits by California management area for 2021 and 2022.

The Council recommended, and NMS is implementing, size limits that are the same in 2021 as they were for 2020 for all stocks. However, the Council recommended and NMFS is eliminating the sub-bag limits for black rockfish, canary rockfish, and cabezon, and NMFS is implementing a sub-bag limit for vermillion rockfish of five fish.

III. Response to Comments

NMFS received nine unique comment letters during the public comment period on the proposed rule (October 2, 2020 through November 2, 2020). Two state agencies submitted comments, the California Department of Fish and Wildlife (CDFW) and the Oregon Department of Fish and Wildlife (ODFW). The letters from the state agencies included requests for clarifications on information included in the preamble to the proposed rule, noted several small errors and inconsistencies in the regulatory text of the proposed rule, and also provided more substantive comments. The Northwest Fisheries Science Center (NWFSC) also submitted a comment noting an error. NMFS has addressed those small errors and inconsistencies in Section IV, “Corrections to the Proposed Rule.” The more substantive comments are addressed below.

The seven other comment letters were from private citizens and non-governmental organizations (NGOs). Two of those letters made comments that were outside the scope of this action and are not addressed here. Four letters were received from members of industry and made substantially similar comments. The responses to these comments have been grouped together and addressed below. The remaining comment letter contained substantive comments. NMFS addresses all substantive comments below. Changes from the proposed rule as a result of substantive comments received during the comment period are addressed in Section V, “Changes to the Proposed Rule.”

Comment 1: Two commenters stated their support for the at-sea set-aside values.

NMFS Response: We agree and appreciate the collaborative work undertaken by the members of different sectors of the Pacific whiting fishery to come together to develop a proposal for the at-sea set-aside values for the 2021-22 biennium. Collaborative work always delivers a better product, and we hope this type of collaboration will continue into future harvest specification cycles.

Comment 2: Three commenters stated their support for Amendment 29 and the designation of shortbelly rockfish as an ecosystem component species based on extensive discussion over several meetings at the Council and based on the best available science.

NMFS Response: We agree that the Council has spent significant time over the past two years in order to develop the best approach to managing shortbelly rockfish based on the best available science and in a way in which it will not significantly impact industry or the resource.

Comment 3: One commenter stated their support for the changes in Amendment 29 to the trawl and nontrawl allocations for blackgill rockfish south of 40°10 N lat., petrale sole, lingcod south of 40°10 N lat., and widow rockfish, and for keeping blackgill rockfish in the slope rockfish complex south of 40°10 N lat.

NMFS Response: We agree with the changes in Amendment 29 to the trawl and nontrawl allocations for these species. These changes better reflect the current distribution of catch and will likely allow more of the ACLs for these stocks and the stock complex to be caught, resulting in more economic benefit to the fishing communities without significantly impacting the resources.

Comment 4: One commenter stated that the discussion in the proposed rule for yellowtail trip limits in the salmon troll fishery north of 40°10″ N lat. neglected to include any discussion on the change for the salmon troll fishery south of 40°10′ N lat.

NMFS response: We agree. The commenter is correct that the discussion of the yellowtail trip limits in the salmon troll fishery south of 40°10′ N lat. was inadvertently left out of the preamble of the proposed rule. Therefore, in this final rule, we updated the heading and added a discussion of the rationale for the regulatory change, as now found above, under the subheading “Yellowtail Trip Limits in the Salmon Troll Fishery North and South of 40°10′ N lat.” in Section II, “Management Measures,” paragraph “F. Limited Entry Fixed Gear and Open Access Nontrawl Fishery”.

Comment 5: One commenter stated that the regulatory text of the proposed rule for the removal of the gear restriction for other flatfish gear in the open access fishery correctly reflected the changes in the trip limit tables for south of 40°10′ N lat., but neglected to include this change in Table 1 for the open access fishery between 40°10′ and 42° N lat. The Council intended to remove this restriction for the entire state of California (south of 42° N lat.). Therefore, the change should also be, made in both Tables 2 North and South for the open access fishery.

NMFS response: We agree. The proposed rule inadvertently left in the gear restrictions for other flatfish gear for the open access fishery for the area between 40°10′ and 42° N lat. in Table 2 North. Therefore, Table 2 North in the regulatory text of this final rule has been corrected to reflect that this change was made for the entire state of California (south of 42° N lat.).

Comment 6: One commenter stated their concern with allowing vessels to fish with hook and line gears, except dinglebar and longline, in the RCA between 42° N lat. and 40°10′ N lat. and 30 fm to 40 fm. The commenter is concerned that having differential gear allowances within the nontrawl RCA will complicate enforcement in these areas, particularly without the addition of a new declaration to clarify if a vessel was fishing with hook and line gear, but not fishing with longline or dinglebar gear. Additionally, because the Council is also removing the limitation on the number and size of hooks allowed by the open access fishery when fishing for other flatfish inside the RCAs off California, the commenter is concerned about the compounded impacts by removing these two provisions at once.

NMFS response: We disagree that the change to allow vessels using hook and line gears, except dinglebar and bottom longline gear, to fish between 30 fm and 40 fms in this area will cause confusion and complication amongst members of law enforcement. The Council's Groundfish Management Team (GMT) has worked with the Council's Enforcement Committee and NMFS' Office of Law Enforcement (OLE) to ensure that there are no enforcement issues associated with this action. Although the Council did not recommend and NMFS is not implementing changes to the declarations so that vessels can declare hook and line gear that is not dinglebar or longline, this does not appear to be an issue. In recent years, vessels have been notifying NMFS OLE when making declarations of the type of hook and line gear used when making their declaration for hook and line gears. Additionally, in recent years, the total number of vessels that have used bottom longline or dinglebar gear versus other types of hook-and-line gear have been a small proportion of the total landings, because other gears are more efficient for the types of species targeted. For example, for vessels targeting lingcod between 2017 and 2019, 20.7 percent of landings by commercial non-trawl gear were taken by bottom longline and 78.6 percent were taken by other hook-and-line gears. For midwater shelf rockfishes (i.e., yellowtail, canary, widow, vermillion and other rockfishes that occur on the shelf), 37.3 percent was taken by bottom longline compared to 62.7 percent taken by other hook-and-line gears. In addition, based on conversations with NMFS OLE, of the other hook-and-line gears being used, only about five vessels use dinglebar gear annually. Therefore, NMFS also does not have concerns over the allowing the use of hook and line gear, except bottom longline or dinglebar, in the nontrawl RCA between 42° N lat. and 40°10′ N lat.

Comment 7: Two commenters stated their opposition to the Council's recommendation and NMFS's proposal to designate shortbelly rockfish as an ecosystem component species beginning with the 2021-22 biennium. In stating their opposition, the commenters raised multiple issues, and we provide a response for each stated issue below.

Shortbelly Rockfish Issue 1: Shortbelly rockfish must remain in the fishery because the species is in need of conservation and management.

NMFS Response: We disagree. Section 302(h)(1) of the Magnuson-Stevens Act requires a Council to prepare an FMP for each fishery under its authority that is in need of conservation and management. “Conservation and management” is defined in section 3(5) of the Magnuson-Stevens Act. The National Standard guidelines at § 600.305(c) provide direction for determining which stocks will require conservation and management and provide direction to regional councils and NMFS for how to consider these factors in making this determination. First, NMFS must consider whether the stocks are “predominately caught in Federal waters and are overfished or subject to overfishing, or likely to become overfished or subject to overfishing.” 50 CFR 600.305(c). Such stocks require conservation and management. If a stock is not likely to become overfished or be subject to overfishing, Councils may still decide that it is appropriate for conservation and management. The guidelines direct regional fishery management councils and NMFS to consider a non-exhaustive list of ten factors when deciding whether stocks require conservation and management. After considering the 10 factors, based on the best available science, the Council recommended and NMFS is implementing designating shortbelly rockfish as an ecosystem component species.

Conservation and management, as defined under the MSA and the National Standard guidelines, is needed when a stock must be rebuilt, restored, or to maintain the status of a stock. Shortbelly rockfish is not under a rebuilding status, and it is not overfished, subject to overfishing or likely to become overfished or subject to overfishing. Stock status was estimated during the last stock assessment to be above 73 percent of the unfished biomass, and less than 20 percent of the ABC has been taken annually in the past several years; these metrics indicate the stock does not need to be rebuilt or restored. Over the past 10 years the population has remained constant and likely has even increased in abundance, with new information suggesting that the population could be booming. As was discussed in the Analysis, based on multiple strong incoming year-classes and as supported by current scientific literature, the shortbelly rockfish stock is expected to thrive for at least the next decade or so.

We agree with the commenter that shortbelly rockfish are an important forage species and are increasingly caught in federally managed fisheries. However, these factors are not determinative that a stock is in need of conservation and management as defined under the MSA. Nor do these factors disqualify a stock from being designated an ecosystem component species. Because there is no directed fishing and incidental fishing-related mortality has been low in comparison to the ABC, it is very unlikely that catch would exceed the overfishing limit for shortbelly rockfish, resulting in shortbelly rockfish becoming overfished and in need of rebuilding. There are no known conservation concerns for shortbelly rockfish, since they are not targeted (shortbelly are primarily caught as bycatch in the Pacific whiting fishery), are not profitable, and future uses of shortbelly rockfish remain unavailable. Therefore, maintaining shortbelly rockfish as a target species in the PCGFMP is not likely to change stock condition. As discussed in the Council meetings, Council reports, and the Analysis, after reviewing each of the ten factors, the Council recommended and NMFS agrees that shortbelly rockfish are not in need of conservation and management, as defined by the MSA.

Finally, we disagree with the requester that designating shortbelly rockfish as an ecosystem component species would prevent NMFS from addressing bycatch in the future, should that become an issue. As stated in the scope of the action in the Analysis, the Council has the ability to change the designation of a stock or stock complex every biennium based on new information. While we agree that we are unable to predict whether or not this fishery will become a target in the future, designating shortbelly rockfish as an ecosystem component species does not mean that NMFS will not monitor the stock or be unable to revisit that designation. Catch of shortbelly rockfish will continue to be reported on fish tickets and that catch data is available to the public on a daily basis through the Pacific Fisheries Information Network (PacFIN) database.¹ Additionally, the Council has already tasked the Council's GMT with providing updates at each Council meeting on the current catch of shortbelly rockfish. If bycatch of the stock starts to increase or a fishery for the stock were to begin to develop, the Council would have the ability to take action to reevaluate the designation of shortbelly rockfish. In the event that the stock becomes in need of conservation and management, the Council would have the obligation to include it in the PCGFMP.

¹ https://reports.psmfc.org/pacfin/f?p=501:1000:13391209073431:::::.

Shortbelly Rockfish Issue 2: Shortbelly rockfish play a vital role in the California current ecosystem.

NMFS Response: We agree. As discussed in the Analysis, shortbelly rockfish is a vital species in the California Current Ecosystem. However, while importance in the marine ecosystem is one of the factors we consider, it alone is not determinative of whether a stock is in need of conservation and management as defined under the MSA. In recommending Amendment 29, the Council relied on the best available science, which indicated increased stock abundance in recent years, to determine that there was a lack of a need for conservation and management of this stock in the 2021-22 biennium. Recent scientific literature indicates that the increased abundance due to high recruitment in 2013 (51 times higher than in 2014) and 2014 (1,750 times higher than 2005) and the extension of the stock's range into more northern waters where Pacific whiting is targeted likely resulted in the higher bycatch in 2018 and 2019 (Agenda Item H.6.a, GMT Report 2, November 2019). Even with the higher bycatch of shortbelly rockfish in recent years, total shortbelly rockfish catch has stayed below 50 percent of the stock's OFL and less than 75 percent of the stock's ABC since 2011. There is no evidence to demonstrate that these catch trends would increase exponentially under an ecosystem component species designation.

The commenters also stated their specific concerns for the marbled murrelet in California, Oregon, and Washington, as the species is listed as threatened under the Endangered Species Act (ESA), and for the California least tern, which is listed as endangered. On May 2, 2017, the U.S. Fish and Wildlife Service (FWS) issued a biological opinion (2017 biological opinion) concurring with NMFS that the fishery is not likely to adversely affect the marbled murrelet or California least tern, among other species, because adverse interactions with vessels and forage depletion are extremely unlikely to occur. Notably, the FWS concluded that small pelagic rockfish, including shortbelly rockfish, are expected to increase in abundance during the continued operation of the groundfish fishery. This action is not expected to change the conclusions from the 2017 biological opinion, because it does not modify the action analyzed in that opinion in a manner or to an extent that would cause an effect to listed species or critical habitat that was not previously considered =.

Shortbelly Rockfish Issue 3: NMFS has not shown that reclassifying shortbelly rockfish as an ecosystem component species would prevent overfishing.

NMFS Response: We disagree. National Standard 9 provides that “[c]onservation and management measures shall, to the extent practicable: (1) Minimize bycatch; and (2) To the extent bycatch cannot be avoided, minimize the mortality of such bycatch.” Designating shortbelly rockfish does not impair the PCGFMP's ability to meet this requirement. All of the PCGFMP's bycatch reduction components are unaffected by this action. Furthermore, there is no evidence to suggest that bycatch of shortbelly rockfish will increase due to this action.

There is no evidence to suggest that designating shortbelly rockfish as an ecosystem component species would result in a significant increase in catch. As has been discussed by members of industry at every Council meeting since November 2018, and as was also stated in the Analysis, the proposed rule, and the NOA for this action, industry has significant incentives not to catch shortbelly rockfish. Currently, shortbelly rockfish prices for processing are extremely low and often don't cover the cost of the vessel to catch and deliver the shortbelly rockfish. Shortbelly rockfish can also clog nets and may spoil Pacific whiting catch. There are no known conservation concerns for shortbelly rockfish since they are not targeted, are not profitable, and future uses of shortbelly rockfish remain unavailable. Therefore, the incentives exist to avoid shortbelly rockfish, and there is no indication that changing the designation of this stock will alter these incentives.

In the future, if there were indications of bycatch of shortbelly rockfish at significantly higher levels than what has been caught in recent years, the Council would be able to revisit the ecosystem component species designation. The Council has previously done exactly this for big skate. The Council designated big skate as an ecosystem component species in the 2017-18 biennium, but after catch of big skate began to increase, the Council re-designated big skate as a stock that is in need of conservation and management in the 2019-20 biennium. As discussed above and below, designation of shortbelly rockfish as an ecosystem component species does not preclude NMFS or the Council from monitoring the stock or taking action to minimize bycatch, if necessary. Catch of shortbelly rockfish will continue to be reported, and that catch data is available publicly through the PacFIN database.

Shortbelly Rockfish Issue 4: Removing all management measures to constrain or reduce shortbelly rockfish bycatch ignores NMFS' ongoing mandate to reduce bycatch.

NMFS Response: We disagree. Designating shortbelly rockfish as an ecosystem component species does not preclude the Council from monitoring catch of shortbelly rockfish or developing management measures to reduce bycatch, if necessary. As stated in the 2020 SAFE document and at § 600.305(c)(5), consistent with National Standard 9, MSA section 303(b)(12), and other applicable MSA sections, management measures can be adopted in order to, for example, collect data on the ecosystem component species, minimize bycatch or bycatch mortality of ecosystem component species, protect the associated role of ecosystem component species in the ecosystem, and/or to address other ecosystem issues. Further, the PCGFMP clarifies that ecosystem component species should be monitored to the extent that any new pertinent scientific information becomes available (e.g., catch trends, vulnerability, etc.) to determine changes in their status or their vulnerability to the fishery. In making its decision in June 2020 to recommend designating shortbelly rockfish as an ecosystem component species, the Council specifically noted that catch of shortbelly rockfish would continue to be monitored by the Council's GMT, and inseason catches will be reported out to the Council at each meeting using the species scorecard. Therefore, in the event that bycatch of shortbelly rockfish does increase significantly in the future, the Council will be notified and will have the ability to adopt management measures in order to minimize bycatch of shortbelly rockfish while it is an ecosystem component species. In designating shortbelly rockfish as an ecosystem component species, the Council still has the ability to recommend, and NMFS can still implement, management measures for shortbelly rockfish to address high bycatch in the future.

The most recent scientific literature indicates that population abundance has increased, accompanied by a northern range expansion. These changes are the most likely explanation for the increased bycatch levels since 2018. Following the ACL (the ACL is a harvest specification) overages in 2018 and 2019, the Council considered this issue extensively and was unable to conclude that any specific management measure would prevent the ACL overages, largely because the stock is not directly targeted and industry already has significant incentives to avoid the stock. However, even without effective management measures, bycatch of shortbelly rockfish has remained less than 50 percent of the stock's OFL. Because of the increasing abundance of the stock and the lack of apparent management measures which will maintain or improve stock status, the Council recommended, and NMFS is implementing, designating shortbelly rockfishas an ecosystem component species.

Shortbelly Rockfish Issue 5: Designating shortbelly rockfish as an ecosystem component species ignores the best available science.

NMFS Response: We disagree. The Council recommended and NMFS is implementing designation of shortbelly rockfish as an ecosystem component species based on the best available peer-reviewed scientific information. The Council and NMFS relied on the most recent and best information available to make determinations on the management of shortbelly rockfish. This information is extensively documented throughout the record of Council meetings discussing shortbelly rockfish since 2018, including Council discussions, advisory body reports and meeting briefing books, and in the Analysis for this rule.

Shortbelly Rockfish Issue 6: As applied to shortbelly rockfish, the regulations authorizing NMFS to designate ecosystem component species violate the Magnuson-Stevens Act.

NMFS Response: We disagree. After extensive analysis and consideration of the best available scientific information and public comment, the Council recommended, and NMFS is implementing, designation of shortbelly rockfish as an ecosystem component species for the 2021-22 biennium. Since 2018, the Council and its advisory bodies have considered this issue extensively, as documented in Council discussion, briefing books and advisory body reports. Both the Council and NMFS have extensively discussed and analyzed the best way to conserve and manage shortbelly rockfish. The most recent information on stock abundance, the likely extension of the stock into northern waters, the lack of a targeted fishery, and the existing disincentives for industry to catch shortbelly rockfish all support the designation of shortbelly rockfish as an ecosystem component species. As discussed above, designation as an ecosystem species does not preclude the Council from monitoring catch of the stock, adopting management measures to reduce bycatch, or revisiting the designation.

Shortbelly Rockfish Issue 7: NMFS must consult on the designation of shortbelly rockfish as an ecosystem component species as it may affect ESA-listed species.

NMFS Response: We disagree that additional consultation is needed due to the designation of shortbelly rockfish as an ecosystem component species for the 2021-22 biennium. As discussed above, the USFWS issued the 2017 biological opinion regarding the effects of the continued operation of the Pacific Coast groundfish fishery (which includes shortbelly rockfish) on California least tern, southern sea otter, bull trout, marbled murrelet, and short-tailed albatross. This action is not expected to change the conclusions of the 2017 biological opinion because it does not modify the action analyzed in that opinion in a manner or to an extent that would cause an effect to listed species or critical habitat that was not previously considered . On December 11, 2017, NMFS issued a biological opinion finding that the effects of the continued operation of the Pacific Coast groundfish fishery is likely to adversely affect, but is not likely to jeopardize, the continued existence of the following listed salmon evolutionarily significant units: Puget Sound Chinook, Snake River Fall Chinook, Lower Columbia River Chinook, Upper Willamette River Chinook, Snake River spring/summer Chinook, California Coastal Chinook, Lower Columbia River Coho, Oregon Coast Coho, Southern Oregon/Northern California coho, and Central California Coast coho. This action does not modify the action analyzed in the December 2017 biological opinion in a manner that may affect listed species in a manner or to an extent not previously considered.

Shortbelly Rockfish Issue 8: Designating shortbelly rockfish as an ecosystem component species could result in the deprioritization of it as a stock to be assessed as part of the 2023-24 biennium.

NMFS Response: We neither agree nor disagree. The Council has adopted a list of candidate stocks for assessment in 2023 for which shortbelly rockfish is included. The Council will make a final decision on this candidate list in June 2022. While we do not know what decision the Council will ultimately make, we have no indication that the Council will remove shortbelly rockfish from this list based on designation as an ecosystem component species. There is no requirement that the Council prioritize only those stocks that are in need of conservation and management for stock assessments. We anticipate that the Council will continue to weigh all options and needs when finalizing their prioritized list of stocks to be assessed for the 2023-24 biennium.

IV. Corrections to the Proposed Rule

NMFS received comment letters from the NWFSC, the CDFW, and the ODFW noting inaccuracies in information presented in the preamble to the proposed rule. NMFS offers the following corrections in this final rule. These clarifications and corrections to the information described in the preamble to the proposed rule do not change the substance or intent of this action. Where necessary, corrections to harvest specifications numbers in the preamble have been carried through to the regulatory text of this final rule.

Table 1 in the preamble of the proposed rule was not labeled correctly. Instead of being labeled as the “Old and New σ Values for Category 1-3 Stocks Over a 10-Year Period” the table should have been labeled, “A Comparison of the Old and New Scientific Uncertainty Reductions for P*=0.45”. These percentages represent the buffer between the OFL, given a P* value of 0.45, and the ABC.

Table 2 in the preamble, and subsequent discussion thereafter, provided incorrect values for the ACLs for sablefish north and south of 36° N lat. and the coastwide apportionment of the ABC for sablefish south of 36° N lat. It was determined during review of the Analysis that these errors were the result of typographical errors in the Council's background material. The errors were not carried through to the calculations for allocations made below the ACLs. The Council recommended these technical changes be made at their September 2020 meeting. Therefore, this final rule corrects the Sablefish ACLs and the Sablefish apportionment, as follows:

On page 62495 of the proposed rule, the section header, entitled “C. Proposed ACLs for 2019 and 2020”, used the incorrect years; the title should have used the correct years, 2021 and 2022.

On page 62498 of the proposed rule, the section header entitled “D. Summary of ACL Changes from 2019 to 2021-22”, used the incorrect year. The year 2019 was incorrect and should have read 2020.

Table 5—ACLs for Major Stocks for 2020, and 2021-22, on page 62499 of the proposed rule, included incorrect values for the ACL for Nearshore Rockfish North. These number should be 79 mt and 77 mt for 2021 and 2022, respectively.

In the proposed rule, there were two tables labeled as “Table 9”: Table 9—2021 and 2022 Allocations of Canary Rockfish on page 62502, and Table 9—2021 and 2022 Trawl/NonTrawl Allocations of Cowcod on page 62503. The second Table 9 for cowcod should have been numbered as Table 10.

In the proposed rule's Table 9—2021 and 2022 Trawl/NonTrawl Allocations of Cowcod on page 62502, the nontrawl and trawl allocation values were transposed. They should have been 32 mt for the non-trawl fishery and 18 mt for the trawl fishery in both 2021 and 2022. In Table 10 of this final rule, these values have been updated to reflect the correct allocations.

In the proposed rule's Table 10—2021 and 2022 Trawl/Nontrawl Allocations of Lingcod south of 40°10′ N lat. on page 62503, the allocations for trawl and non-trawl were transposed. The nontrawl allocation should be 653.4 mt for 2021 and 695.4 mt for 2022. The trawl allocation should be 435.6 mt in 2021 and 463.6 mt in 2022. The correct allocations can be found in Table 11 of this final rule.

In the proposed rule's Table 19—Proposed Season Structure and Depth Limits by Management Area for 2021 and 2022 on page 62509, for the southern management area, the depth limit was incorrectly listed as <50 fm which was the same depth for the two areas north of the southern management area (San Francisco and Central management areas). This depth was inadvertently carried through to the southern management area. However, the depth limit should be <100 fm, as recommended by the Council. The correct value is included in Table 20 of this final rule.

The CDFW and the ODFW also highlighted several technical errors in the regulatory text of the proposed rule. These technical errors are discussed below, and are corrected in the regulatory text of this final rule, but do not change the substance of this final rule.

In Table 1a, Subpart C—2021 Specifications of OFL, ABC, ACL, ACT, and Fishery HG in the regulatory text, in footnote “h” for bocaccio on page 62515, the nearshore and non-nearshore allocation listed was the allocation for 2022 (315.7 mt) instead of for 2021 (320.2 mt). In this final rule, the same table contains the corrected allocation, 320.2 mt for 2021.

In Table 1a, Subpart C—2021 Specifications of OFL, ABC, ACL, ACT, and Fishery HG in the regulatory text of the proposed rule, in footnote “aa” for sablefish south of 36° N. lat. on page 62517, the percentage of the coastwide catch was shown as 21.5 percent. This number has been corrected in this final rule to be shown as 21.6 percent, which accurately reflects the Council's recommended allocation percentage of sablefish south of 36° N. lat..

In Table 1b, Subpart C—2021 Allocations by Species or Species Group of the regulatory text of the proposed rule on page 62519, the trawl allocation for English sole had a comma in the wrong place. In this final rule, the value is correctly listed as 8,478.2 mt.

In Table 2a, Subpart C—2022 Specifications of OFL, ABC, ACL, ACT and Fishery Harvest Guidelines in the regulatory text of the proposed rule, in footnote “h” for bocaccio on page 62523, there was no listed amount for the combined nearshore and non-nearshore fishery. In this final rule, footnote “h” of this table states that the 2022 combined allocation to the nearshore and non-nearshore fishery is 315.7 mt.

In Table 2a, Subpart C—2022 Specifications of OFL, ABC, ACL, ACT and Fishery Harvest Guidelines in the regulatory text of the proposed rule, in footnote “u” for longspine thornyhead on page 52523, the value was incorrectly listed as 77771.8 mt. In this final rule, the value has been corrected so that it is 771.8 mt.

In Table 2a, Subpart C—2022 Specifications of OFL, ABC, ACL, ACT and Fishery Harvest Guidelines in the regulatory text of the proposed rule, in footnote “w” on page 62524, the harvest guideline value for Pacific ocean perch was incorrectly listed as 3,829.3 mt. In this final rule, the value has been corrected to 3,686.2 mt.

In Table 2a, Subpart C—2022 Specifications of OFL, ABC, ACL, ACT and Fishery Harvest Guidelines in the regulatory text of the proposed rule, in footnote “mm” for Nearshore Rockfish north of 40°10′ N lat. on page 62525, the last sentence in the footnote referred to the harvest guidelines as recreational harvest guidelines. However, these guideline apply to more than just recreational fisheries. Therefore, in this final rule this text has been corrected by changing “Recreational HGs are” to “State-specific HGs are”.

In Table 2b, Subpart C—2022 and Beyond, Allocations by Species or Species Group, in the regulatory text of the proposed rule on page 62526, the fishery harvest guideline for yellowtail rockfish was incorrectly listed in the proposed rule as 4,793.5 mt. This value has been corrected to 4,783.5 mt in this final rule.

In Table 1 to paragraph (d)(1)(ii)(D) in § 660.140 “Shorebased IFQ Program” in the regulatory text of the proposed rule on page 62528, the 2021 and 2022 shorebased trawl allocations for Sablefish south of 36° N lat. were incorrectly listed as 782.3 mt and 744.9 mt, respectively. These values have been corrected to 786 mt and 748 mt, respectively, in this final rule.

In Table 1 to paragraph (d)(1)(ii)(D) in § 660.140 “Shorebased IFQ Program” in the regulatory text of the proposed rule on page 62528, the 2022 shorebased trawl allocations for Yellowtail Rockfish were incorrectly listed as 3,889.4 mt. This value has been corrected to 3,898.24 mt, in this final rule.

In Table 3 (North), Subpart F—Non-Trawl Rockfish Conservation Areas and Trip Limits for Open Access Gears North of 40°10′ N lat., in the regulatory text of the proposed rule on page 62534, the text describing the salmon troll limit in the north was been cut off. In this final rule, the table cell has been resized so that all the text is shown.

In Table 3 (South), Subpart F—Non-Trawl Rockfish Conservation Areas and Trip Limits for Open Access Gears South of 40°10′ N lat., in the regulatory text of the proposed rule on page 62535, the text of the salmon troll trip limit incorrectly stated the area of the limit as “This limit is within the 4,000 lbs per 2 month limit for minor shelf rockfish between 40°10′ N lat. and 24°27′ N lat.” In this final rule, the text has been corrected to state that “This limit is within the 4,000 lbs per 2 month limit for minor shelf rockfish between 40°10′ N lat. and 34°27′ N lat.”.

In Table 3 (South), Subpart F—Non-Trawl Rockfish Conservation Areas and Trip Limits for Open Access Gears South of 40°10′ N lat., in the regulatory text of the proposed rule on page 62535, the text describing the Pink shrimp Nongroundfish Trawl fishery (Line 49) was been cut off. In this final rule, the table cell has been resized so that all the text is shown.

In § 660.360(c)(3)(i)(A) in the regulatory text of the proposed rule on page 62537, the text inadvertently referenced the coordinates approximating the boundary lines at 10-fm (18 m) through 40-fm (73 m) depth contours at § 660.71. However, because the recreational fisheries extend from 50-fm to 100-fm, the referenced coordinates should be at §§ 660.72 and 660.73. In this final rule, this text has been amended to include reference to the correct sections.

In § 660.360(c)(3)(ii)(B) in the regulatory text of the proposed rule on page 62537, the text states “In times and areas when the recreational season for the RCG Complex is open, there is a limit of 2 hooks and 1 line when fishing for the RCG complex and lingcod.” Lingcod does not need to be listed here, as it is address in § 660.360(c)(3)(iii); therefore, the reference has been removed from the regulatory text in this final rule.

V. Changes From the Proposed Rule

As a result of comments received on the proposed rule, NMFS is making the following changes to the proposed rule. In addition, one set of minor changes is being made to the proposed rule in accordance with a November 2020 Council recommendation based on newly updated catch data that was not available before the proposed rule was published.

In § 660.230(d)(10)(i), current regulations include reference to the other flatfish gear prohibition on the number and size of hooks allowed for the open access fishery. This text was not suggested to be deleted in the proposed rule. However, because the Council recommended, and NMFS is implementing, changes to this prohibition, conforming amendments to this text should also have been proposed to reflect this change. Because the text at § 660.230(d)(10)(i) is no longer necessary, this final rule removes pargraph § 660.230(d)(10)(i).

The regulatory text in the proposed rule removed the recreational season structure text in § 660.360(c)(3)(i)(A)(1)-(5), and replaced it with a table. The CDFW commented that it had concerns with the change and felt that it omitted text that was critical for state enforcement and which was referenced in state regulations. Based on this concern, in this final rule, NMFS has removed Table 2 in this section and replaced it with the paragraph structure used in the 2019-20 biennium. All Council recommendations are reflected in the new paragraph structure.

In § 660.360(c)(3)(i)(A)(1) of the regulatory text in the proposed rule, there is only reference to the depth contour (“prohibited seaward of the 30 fm (55 m) depth contour along the mainland coast and along islands and offshore seamounts”), without any reference to the boundary line. To remain consistent with other sections of the regulatory text that describe the boundary lines for the recreational fisheries, this final rule is corrected to to read, “prohibited seaward of the boundary line approximating the 30 fm (55 m) depth contour along the mainland coast and along islands and offshore seamounts”.

In § 660.360(c)(3)(i)(A)(2) of the regulatory text in the proposed rule, there is only reference to the depth contour, without any reference to the boundary line. To remain consistent with other section of the regulatory text that describe the boundary lines for the recreational fisheries, in this final rule, this text has been updated from “is prohibited seaward of the 20 fm (37 m) depth contour along the mainland coast and along islands and offshore seamounts” to read, “is prohibited seaward of the boundary line approximating the 20 fm (37 m) depth contour along the mainland coast and along islands and offshore seamounts”.

Finally, at its November 2020 meeting, the Council recommended changes to the trip limits for the limited entry and open access fisheries north and south of 36° N lat. for sablefish and lingcod south of 40°10′ N lat., and the open access trip limit for shortspine and longspine thornyhead south of 34°27′ N lat. All changes are to increase trip limits as a result of updated catch data that show lower than projected attainment for these stocks in the most recent fishing season. As a result, trip limits can be raised to allow for full attainment of the HG for both of these stocks in 2021. These changes were recommended by the Council to NMFS through the inseason action process and are incorporated into this final rule for implementation for the 2021 fisheries. Because these trip limits are within the range of what was previously analyzed, they constitute a minor, routine adjustment to the management measures for the 2021 groundfish fisheries.

VI. Classification

Pursuant to section 304 (b)(3) of the Magnuson-Stevens Act, the NMFS Assistant Administrator has determined that this final rule is consistent with the PCGFMP, other provisions of the Magnuson-Stevens Act, and other applicable law.

NMFS finds good cause to waive the 30-day delay in effectiveness pursuant to 5 U.S.C. 553(d)(3), so that this final rule may become effective on January 1, 2021. This action establishes the final specifications (i.e., annual catch limits) for the Pacific Coast groundfish fisheries for the 2021 fishing year, which begins on January 1, 2021. If this final rule is not effective on January 1, 2021, then the fishing year begins using the catch limits and management measures from 2020.

Because this final rule increases the catch limits for several species for 2021, leaving 2020 harvest specifications in place could unnecessarily delay fishing opportunities until later in the year, potentially reducing the total catch for these species in 2021. Thus, a delay in effectiveness could ultimately cause economic harm to the fishing industry and associated fishing communities or result in harvest levels inconsistent with the best available scientific information.

This final rule is not unexpected or controversial. The groundfish harvest specifications are published biennially and are intended to be effective on January 1 of odd numbered years. Additionally, the subject of this final rule has been developed over a series of six public meetings of the Council from June 2019 to June 2020. The public is given notice of these meetings, and the public is provided opportunity to comment on actions through that venue as well as through the rulemaking process.

Because of the potential harm to fishing communities that could be caused by delaying the effectiveness of this final rule, and because of the previous notification to the regulated public of these changes through the Council process, NMFS finds there is good cause to waive the 30-day delay in effectiveness.

Pursuant to Executive Order 13175, this rule was developed after meaningful consultation and collaboration with tribal officials from the area covered by the PCGFMP. Under the Magnuson-Stevens Act at 16 U.S.C. 1852(b)(5), one of the voting members of the Pacific Council must be a representative of an Indian tribe with federally recognized fishing rights from the area of the Council's jurisdiction. In addition, regulations implementing the PCGFMP establish a procedure by which the tribes with treaty fishing rights in the area covered by the PCGFMP request new allocations or regulations specific to the tribes, in writing, before the first of the two meetings at which the Council considers groundfish management measures. The regulations at 50 CFR 660.324(d) further direct NMFS to develop tribal allocations and regulations in consultation with the affected tribes. The tribal management measures in this proposed rule have been developed following these procedures. The tribal representative on the Council made a motion to adopt the non-whiting tribal management measures, which was passed by the Council. Those management measures, which were developed and proposed by the tribes, are included in this final rule.

The Council prepared an environmental assessment for Amendment 29 to the PCGFMP and the 2021-22 harvest specifications and management measures, and concluded that there will be no significant impact on the human environment as a result of this rule. A copy of the integrated analysis is available from NMFS (see ADDRESSES).

This final rule has been determined to be not significant for purposes of Executive Order 12866.

This final rule is not an Executive Order 13771 regulatory action because this action is not significant under Executive Order 12866.

The Chief Counsel for Regulation of the Department of Commerce certified to the Chief Counsel for Advocacy of the Small Business Administration during the proposed rule stage that this action would not have a significant economic impact on a substantial number of small entities. The factual basis for the certification was published in the proposed rule, and is not repeated here. No comments were received regarding this certification. As a result, a final regulatory flexibility analysis was not required and none was prepared.

This final rule contains no information collection requirements under the Paperwork Reduction Act of 1995.

List of Subjects in 50 CFR Part 660

Fisheries, Fishing, Reporting and recordkeeping requirements.

Dated: December 7, 2020.
Samuel D. Rauch III,
Deputy Assistant Administrator for Regulatory Programs, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. In § 660.11, revise the introductory text and paragraph (2)(xviii) of the definition of “North-South management area” to read as follows:

§ 660.11 General definitions.

* * * * *

North-South management area means the management areas defined in paragraph (1) of this definition, or defined and bounded by one or more or the commonly used geographic coordinates set out in paragraph (2) of this definition for the purposes of implementing different management measures in separate geographic areas of the U.S. West Coast.

* * * * *

(2) * * *

(xviii) Point Arena, CA—management line—38°57.50′ N lat.

* * * * *

3. Amend § 660.40 by:

a. Revising the section heading;

b. Removing paragraph (a);

c. Redesignating paragraph (b) as paragraph (a), and revising newly redesignated paragraph (a); and

d. Adding and reserving a new paragraph (b).

The revision reads as follows:

§ 660.40 Rebuilding plans.

* * * * *

(a) Yelloweye rockfish. Yelloweye rockfish was declared overfished in 2002. The target year for rebuilding the yelloweye rockfish stock to BMSY is 2029. The harvest control rule to be used to rebuild the yelloweye rockfish stock is an annual SPR harvest rate of 65.0 percent.

(b) [Reserved]

4. In § 660.50, revise paragraphs (f)(2)(ii) and (f)(6) to read as follows:

§ 660.50 Pacific Coast treaty Indian fisheries.

* * * * *

(f) * * *

(2) * * *

(ii) The Tribal allocation is 689.2 mt in 2021 and 656.6 mt in 2022 per year. This allocation is, for each year, 10 percent of the Monterey through Vancouver area (North of 36° N lat.) ACL. The Tribal allocation is reduced by 1.7 percent for estimated discard mortality.

* * * * *

(6) Petrale sole. For petrale sole, treaty fishing vessels are restricted to a fleetwide harvest target of 350 mt each year.

* * * * *

5. Amend § 660.71 by:

a. Redesignating paragraphs (o)(133) through (216) as paragraphs (o)(135) through (218); and

b. Adding new paragraphs (o)(133) and (134) to read as follows:

§ 660.71 Latitude/longitude coordinates defining the 10-fm (18-m) through 40-fm (73-m) depth contours.

* * * * *

(o) * * *

(133) 37°25.00′ N lat., 122°38.66′ W long.;

(134) 37°20.68′ N lat., 122°36.79′ W long.;

* * * * *

6. Amend § 660.73 by:

a. Revising paragraphs (a)(2902) and (a)(309) through (315);

b. Adding paragraphs (a)(316) through (321);

c. Revising paragraphs (b)(1) through (14);

d. Adding paragraph (b)(15);

e. Revising paragraphs (c)(10) through (14);

f. Redesignatng paragraphs (d) through (l) as paragraphs (e) through (m); and

g. Adding new paragraph (d).

The additions and revisions read as follows:

§ 660.73 Latitude/longitude coordinates defining the 100 fm (183 m) through 150 fm (274 m) depth contours.

* * * * *

(a) * * *

(290) 34°03.33′ N lat., 119°12.93′ W long.;

* * * * *

(309) 33°2.81′ N lat., 117°21.17′ W long.;

(310) 33°1.76′ N lat., 117°20.51′ W long.;

(311) 32°59.90′ N lat., 117°19.38′ W long.;

(312) 32°57.29′ N lat., 117°18.94′ W long.;

(313) 32°56.15′ N lat., 117°19.54′ W long.;

(314) 32°55.30′ N lat., 117°19.38′ W long.; and

(315) 32°54.27′ N lat., 117°17.17′ W long.

(316) 32°52.94′ N lat., 117°17.11′ W long.;

(317) 32°52.66′ N lat., 117°19.67′ W long.;

(318) 32°50.95′ N lat., 117°21.17′ W long.;

(319) 32°47.11′ N lat., 117°22.98′ W long.;

(320) 32°45.60′ N lat., 117°22.64′ W long.; and

(321) 32°42.79′ N lat., 117°21.16′ W long.;

(b) * * *

(1) 33°04.80′ N lat., 118°37.90′ W long.;

(2) 33°02.65′ N lat., 118°34.08′ W long.;

(3) 32°55.80′ N lat., 118°28.92′ W long.;

(4) 32°55.04′ N lat., 118°27.68′ W long.;

(5) 32°49.79′ N lat., 118°20.87′ W long.;

(6) 32°48.05′ N lat., 118°19.62′ W long.;

(7) 32°47.41′ N lat., 118°21.86′ W long.;

(8) 32°44.03′ N lat., 118°24.70′ W long.;

(9) 32°47.81′ N lat., 118°30.20′ W long.;

(10) 32°49.79′ N lat., 118°32.00′ W long.;

(11) 32°53.36′ N lat., 118°33.23′ W long.;

(12) 32°55.13′ N lat., 118°35.31′ W long.;

(13) 33°00.22′ N lat., 118°38.68′ W long.;

(14) 33°03.13′ N lat., 118°39.59′ W long.; and

(15) 33°04.80′ N lat., 118°37.90′ W long.

(c) * * *

(10) 33°18.14′ N lat., 118°27.94′ W long.;

(11) 33°19.84′ N lat., 118°32.22′ W long.;

(12) 33°20.81′ N lat., 118°32.91′ W long.;

(13) 33°21.94′ N lat., 118°32.03′ W long.;

(14) 33°23.14′ N lat., 118°30.12′ W long.;

(d) The 100 fm (183 m) depth contour around the northern Channel Islands off the state of California is defined by straight lines connecting all of the following points in the order stated:

(1) 34°12.89′ N lat., 120°29.31′ W long.;

(2) 34°10.96′ N lat., 120°25.19′ W long.;

(3) 34°08.74′ N lat., 120°18.00′ W long.;

(4) 34°07.02′ N lat., 120°10.45′ W long.;

(5) 34°06.75′ N lat., 120°05.09′ W long.;

(6) 34°08.15′ N lat., 119°54.96′ W long.;

(7) 34°′07.17 N lat., 119°48.54′ W long.;

(8) 34°05.66′ N lat., 119°37.58′ W long.;

(9) 34°04.76′ N lat., 119°26.28′ W long.;

(10) 34°02.93′ N lat., 119°18.06′ W long.;

(11) 34°00.97′ N lat., 119°18.78′ W long.;

(12) 33°59.38′ N lat., 119°21.71′ W long.;

(13) 33°58.62′ N lat., 119°32.05′ W long.;

(14) 33°57.69′ N lat., 119°33.38′ W long.;

(15) 33°57.40′ N lat., 119°35.84′ W long.;

(16) 33°56.07′ N lat., 119°41.10′ W long.

(17) 33°55.54′ N lat., 119°47.99′ W long.;

(18) 33°56.60′ N lat., 119°51.40′ W long.;

(19) 33°55.56′ N lat., 119°53.87′ W long.;

(20) 33°54.40′ N lat., 119°53.74′ W long.;

(21) 33°52.72′ N lat., 119°54.62′ W long.;

(22) 33°47.95′ N lat., 119°53.50′ W long.;

(23) 33°45.75′ N lat., 119°51.04′ W long.;

(24) 33°40.18′ N lat., 119°50.36′ W long.;

(25) 33°38.19′ N lat., 119°57.85′ W long.;

(26) 33°44.92′ N lat., 120°02.95′ W long.;

(27) 33°48.90′ N lat., 120°05.34′ W long.;

(28) 33°51.64′ N lat., 120°08.11′ W long.;

(29) 33°58.31′ N lat., 120°27.99′ W long.;

(30) 34°03.23′ N lat., 120°34.34′ W long.;

(31) 34°09.42′ N lat., 120°37.64′ W long.; and

(32) 34°12.89′ N lat., 120°29.31′ W long.

* * * * *

7. Revise table 1a to subpart C to read as follows:

8. Revise Table 1b to subpart C to read as follows

9. Revise Table 1c to subpart C to read as follows:

10. Revise Table 2a to Subpart C, are revised to read as follows:

11. Revise Table 2b to subpart C to read as follows:

12. Revise Table 2c to subpart C to read as follows:

13. In § 660.140, revise paragraphs (d)(1)(ii)(D) to read as follows:

§ 660.140 Shorebased IFQ Program.

* * * * *

(d) * * *

(1) * * *

(ii) * * *

(D) For the trawl fishery, NMFS will issue QP based on the following shorebased trawl allocations:

* * * * *

14. Revise Tables 1 (North) and 1 (South) to part 660, subpart D to read as follows:

BILLING CODE 3510-22-P

14. Amend § 660.230 by removing and reserving paragraph (d)(10)(i) and revising paragraph (d)(10)(ii) to read as follows:

§ 660.230 Fixed gear fishery—management measures.

* * * * *

(d) * * *

(10) * * *

(ii) Fishing for rockfish and lingcod is permitted shoreward of the boundary line approximating the 40 fm (73 m) depth contour within the CCAs when trip limits authorize such fishing and provided a valid declaration report as required at § 660.13(d) has been filed with NMFS OLE. Coordinates for the boundary line approximating the 40 fm (73 m) depth contour are listed in § 660.71.

* * * * *

15. In § 660.231, revise paragraph (b)(3)(i) to read as follows:

§ 660.231 Limited entry fixed gear sablefish primary fishery.

* * * * *

(b) * * *

(3) * * * (i) A vessel participating in the primary season will be constrained by the sablefish cumulative limit associated with each of the permits registered for use with that vessel. During the primary season, each vessel authorized to fish in that season under paragraph (a) of this section may take, retain, possess, and land sablefish, up to the cumulative limits for each of the permits registered for use with that vessel (i.e., stacked permits). If multiple limited entry permits with sablefish endorsements are registered for use with a single vessel, that vessel may land up to the total of all cumulative limits announced in this paragraph for the tiers for those permits, except as limited by paragraph (b)(3)(ii) of this section. Up to 3 permits may be registered for use with a single vessel during the primary season; thus, a single vessel may not take and retain, possess or land more than 3 primary season sablefish cumulative limits in any one year. A vessel registered for use with multiple limited entry permits is subject to per vessel limits for species other than sablefish, and to per vessel limits when participating in the daily trip limit fishery for sablefish under § 660.232. In 2021, the following annual limits are in effect: Tier 1 at 58,649 lb (26,602 kg), Tier 2 at 26,659 lb (12,092 kg), and Tier 3 at 15,234 lb (6,910 kg). In 2022 and beyond, the following annual limits are in effect: Tier 1 at 55,858 lb (25,337 kg), Tier 2 at 25,390 lb (11,517 kg), and Tier 3 at 14,509 lb (6,581 kg).

* * * * *

16. Revise Table 2 (North) and Table 2 (South) to part 660, subpart E, to read as follows:

17. Revise Table 3 (North) and Table 3 (South) in part 660, subpart F, to read as follows:

BILLING CODE 3510-22-C

18. Amend § 660.360 by:

a. Removing paragraphs (c)(1)(i)(D)(1) through (3); and

b. Revising paragraphs (c)(1) introductory text, (c)(1)(i)(B), (c)(1)(i)(C), (c)(1)(i)(D), (c)(2)(i)(B), (c)(2)(i)(D), (c)(3)(i)(A), and (c)(3)(ii)(B).

The revisions read as follows:

§ 660.360 Recreational fishery—management measures.

* * * * *

(c) * * *

(1) Washington. For each person engaged in recreational fishing off the coast of Washington, the groundfish bag limit is 9 groundfish per day, including rockfish, cabezon and lingcod. Within the groundfish bag limit, there are sub-limits for rockfish, lingcod, and cabezon outlined in paragraph (c)(1)(i)(D) of this section. In addition to the groundfish bag limit of 9, there will be a flatfish limit of 5 fish, not to be counted towards the groundfish bag limit but in addition to it. The recreational groundfish fishery will open the second Saturday in March through the third Saturday in October for all species. In the Pacific halibut fisheries, retention of groundfish is governed in part by annual management measures for Pacific halibut fisheries, which are published in the Federal Register. The following seasons, closed areas, sub-limits and size limits apply:

(i) * * *

(B) South coast recreational yelloweye rockfish conservation area. Recreational fishing for groundfish and halibut is allowed within the South Coast Recreational YRCA. The South Coast Recreational YRCA is defined by latitude and longitude coordinates specified at § 660.70, subpart C.

(C) Westport offshore recreational yelloweye rockfish conservation area. Recreational fishing for groundfish and halibut is allowed within the Westport Offshore Recreational YRCA. The Westport Offshore Recreational YRCA is defined by latitude and longitude coordinates specified at § 660.70, subpart C.

(D) Recreational rockfish conservation area. Fishing for groundfish with recreational gear is prohibited within the recreational RCA unless otherwise stated. It is unlawful to take and retain, possess, or land groundfish taken with recreational gear within the recreational RCA unless otherwise stated. A vessel fishing in the recreational RCA may not be in possession of any groundfish unless otherwise stated. [For example, if a vessel participates in the recreational salmon fishery within the RCA, the vessel cannot be in possession of groundfish while in the RCA. The vessel may, however, on the same trip fish for and retain groundfish shoreward of the RCA on the return trip to port.] Coordinates approximating boundary lines at the 10-fm (18-m) through 100-fm (183-m) depth contours can be found at § 660.71 through § 660.73. The Washington recreational fishing season structure is as follows:

* * * * *

(2) * * *

(i) * * *

(B) Recreational rockfish conservation area (RCA). Fishing for groundfish with recreational gear is prohibited within the recreational RCA, a type of closed area or groundfish conservation area, except with long-leader gear (as defined at § 660.351). It is unlawful to take and retain, possess, or land groundfish taken with recreational gear within the recreational RCA, except with long-leader gear (as defined at § 660.351). A vessel fishing in the recreational RCA may not be in possession of any groundfish. [For example, if a vessel fishes in the recreational salmon fishery within the RCA, the vessel cannot be in possession of groundfish while within the RCA. The vessel may, however, on the same trip fish for and retain groundfish shoreward of the RCA on the return trip to port.] Off Oregon, from January 1 through December 31, recreational fishing for groundfish is allowed in all depths. Coordinates approximating boundary lines at the 10- fm (18 m) through 100-fm (183-m) depth contours can be found at § 660.71 through § 660.73.

* * * * *

(D) In the Pacific halibut fisheries. Retention of groundfish is governed in part by annual management measures for Pacific halibut fisheries, which are published in the Federal Register. Between the Columbia River and Humbug Mountain, during days open to the “all-depth” sport halibut fisheries, when Pacific halibut are onboard the vessel, no groundfish, except sablefish, Pacific cod, and other species of flatfish (sole, flounder, sanddab), may be taken and retained, possessed or landed, except with long-leader gear (as defined at § 660.351). “All-depth” season days are established in the annual management measures for Pacific halibut fisheries, which are published in the Federal Register and are announced on the NMFS Pacific halibut hotline, 1-800-662-9825.

(3) * * *

(i) * * *

(A) Recreational rockfish conservation areas. The recreational RCAs are areas that are closed to recreational fishing for groundfish. Fishing for groundfish with recreational gear is prohibited within the recreational RCA, except that recreational fishing for species in the Other Flatfish complex, petrale sole, and starry flounder is permitted within the recreational RCA as specified in paragraph (c)(3)(iv) of this section. It is unlawful to take and retain, possess, or land groundfish taken with recreational gear within the recreational RCA, unless otherwise authorized in this section. A vessel fishing in the recreational RCA may not be in possession of any species prohibited by the restrictions that apply within the recreational RCA. For example, if a vessel fishes in the recreational salmon fishery within the RCA, the vessel cannot be in possession of rockfish while in the RCA. The vessel may, however, on the same trip fish for and retain rockfish shoreward of the RCA on the return trip to port. If the season is closed for a species or species group, fishing for that species or species group is prohibited both within the recreational RCA and shoreward of the recreational RCA, unless otherwise authorized in this section. Coordinates approximating boundary lines at the 10- fm (18 m) through 100-fm (183-m) depth contours can be found at § 660.71 through § 660.73. The California recreational fishing season structure and RCA depth boundaries by management area and month are as follows:

(1) Between 42° N lat. (California/Oregon border) and 40°10′ N lat. (Northern Management Area), recreational fishing for all groundfish (except petrale sole, starry flounder, and “Other Flatfish” as specified in paragraph (c)(3)(iv) of this section) is closed from January 1 through April 30; is prohibited seaward of the 30 fm (55 m) depth contour along the mainland coast and along islands and offshore seamounts from May 1 through October 31 (shoreward of 30 fm is open); and is open at all depths from November 1 through December 31.

(2) Between 40°10′ N lat. and 38°57.50′ N lat. (Mendocino Management Area), recreational fishing for all groundfish (except petrale sole, starry flounder, and “Other Flatfish” as specified in paragraph (c)(3)(iv) of this section) is closed from January 1 through April 30; prohibited seaward of the 30 fm (55 m) depth contour along the mainland coast and along islands and offshore seamounts from May 1 through October 31 (shoreward of 30 fm is open), and is open at all depths from November 1 through December 31.

(3) Between 38°57.50′ N lat. and 37°11′ N lat. (San Francisco Management Area), recreational fishing for all groundfish (except petrale sole, starry flounder, and “Other Flatfish” as specified in paragraph (c)(3)(iv) of this section) is closed from January 1 through March 31; is prohibited seaward of the boundary line approximating the 50 fm (91 m) depth contour along the mainland coast and along islands and offshore seamounts from April 1 through December 31 (shoreward of 50 fm is open). Closures around Cordell Bank (see paragraph (c)(3)(i)(C) of this section) also apply in this area.

(4) Between 37°11′ N lat. and 34°27′ N lat. (Central Management Area), recreational fishing for all groundfish (except petrale sole, starry flounder, and “Other Flatfish” as specified in paragraph (c)(3)(iv) of this section) is closed from January 1 through March 31; and is prohibited seaward of a boundary line approximating the 50 fm (91 m) depth contour along the mainland coast and along islands and offshore seamounts from April 1 through December 31.

(5) South of 34°27′ N lat. (Southern Management Area), recreational fishing for all groundfish (except California scorpionfish, “Other Flatfish,” petrale sole, and starry flounder) is closed entirely from January 1 through the last day of February. Recreational fishing for all groundfish (except “Other Flatfish,” petrale sole, and starry flounder, as specified in paragraph (c)(3)(iv) of this section) is prohibited seaward of a boundary line approximating the 100 fm (137 m) depth contour from April 1 through December 31 along the mainland coast and along islands and offshore seamounts, except in the CCAs where fishing is prohibited seaward of the 40 fm (73 m) depth contour when the fishing season is open (see paragraph (c)(3)(i)(B) of this section).

* * * * *

(ii) * * *

(B) Bag limits, hook limits. In times and areas when the recreational season for the RCG Complex is open, there is a limit of 2 hooks and 1 line when fishing for the RCG complex. The bag limit is 10 RCG Complex fish per day coastwide, with a sub-bag limit of 5 fish for vermilion rockfish. This sub-bag limit counts towards the bag limit for the RCG Complex and is not in addition to that limit. Retention of yelloweye rockfish, bronzespotted rockfish, and cowcod is prohibited. Multi-day limits are authorized by a valid permit issued by California and must not exceed the daily limit multiplied by the value of days in the fishing trip.

* * * * *

[FR Doc. 2020-27142 Filed 12-10-20; 8:45 am]

BILLING CODE 3510-22-P